DEPARTMENT OF TRANSPORTATION

Federal Motor Carrier Safety Administration

[Docket No. FMCSA-2025-0919]

Agency Information Collection Activities; Renewal of an Approved Information Collection: Training Certification for Drivers of Longer Combination Vehicles

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval and invites public comment. FMCSA requests approval to renew an ICR titled, “Training Certification for Drivers of Longer Combination Vehicles,” OMB Control No. 2126-0026. This ICR relates to Agency requirements for drivers to be certified to operate longer combination vehicles (LCVs), and associated recordkeeping requirements that motor carriers must satisfy before permitting their drivers to operate LCVs. Motor carriers, upon inquiry by authorized Federal, State, or local officials, must produce an LCV Driver-Training Certificate for each of their LCV drivers.

DATES: Comments on this notice must be received on or before February 17, 2026.

ADDRESSES: You may submit comments identified by Docket Number FMCSA-2025-0919 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001 between 9 a.m. and 5 p.m. ET, Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments.

FOR FURTHER INFORMATION CONTACT: Bernadette Walker, FMCSA, Driver and Carrier Operations Division, DOT, FMCSA, 1200 New Jersey Avenue SE, Washington, DC 20590; (202) 385-2415; bernadette.walker@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2025-0919), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0919/document, click on this notice, click “Comment,” and type your comment into the text box on the following screen.

If you submit your comments by mail or hand delivery, submit them in an unbound format, no larger than 8½ by 11 inches, suitable for copying and electronic filing.

FMCSA will consider all comments and material received during the comment period.

Privacy Act

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

Background

An LCV is any combination of a truck-tractor and two or more semi-trailers or trailers that operates on the National System of Interstate and Defense Highways (according to 23 CFR part 470.107) and has a gross vehicle weight greater than 80,000 pounds. To enhance the safety of LCV operations on our Nation's highways, section 4007(b) of the Motor Carrier Act of 1991 directed the Secretary of Transportation to establish Federal minimum training requirements for drivers of LCVs (Intermodal Surface Transportation Efficiency Act of 1991, Public Law 102-240, 105 Stat. 1914, 2152). The Secretary of Transportation delegated responsibility for establishing these requirements to FMCSA (49 CFR part 1.87), and on March 30, 2004, after appropriate notice and solicitation of public comment, FMCSA established the current training requirements for operators of LCVs (69 FR 16722). The regulations bar motor carriers from permitting their drivers to operate an LCV if they have not been properly trained in accordance with the requirements of § 380.113. Drivers receive an LCV Driver-Training Certificate upon successful completion of these training requirements. Motor carriers employing an LCV driver must verify the driver's qualifications to operate an LCV and must maintain a copy of the LCV Driver-Training Certificate and present it to authorized Federal, State, or local officials upon request.

Renewal of This Information Collection (IC)

The current burden estimate associated with this IC, approved by OMB on July 3, 2023, is 4,360 hours. The expiration date of the current ICR is July 31, 2026. Through this ICR renewal, the Agency requests an increase in the burden hours from 4,360 hours to 4,959 hours. The increase is the result of the increase in estimated driver population as well as the increase in expected industry growth rate for drivers from 2024 to 2034.

Title: Training Certification for Drivers of LCVs.

OMB Control Number: 2126-0026.

Type of Request: Renewal of an information collection.

Respondents: LCV training providers, drivers, and motor carriers employing LCV drivers.

Estimated Number of Respondents: 59,333, consisting of 178 LCV training providers, 178 newly certified LCV drivers seeking employment, 29,400 currently certified LCV drivers seeking employment, and 29,577 motor carriers employing LCV drivers.

Estimated Time per Response: 10 minutes for preparation of LCV Driver-Training Certificates for drivers who successfully complete the LCV training, and 10 minutes for activities associated with the LCV Driver-Training Certificate during the hiring process.

Expiration Date: July 31, 2026.

Frequency of Response: On occasion.

Estimated Total Annual Burden: 4,959.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Jonathan Mueller,
Acting Associate Administrator, Office of Research and Registration.

[FR Doc. 2025-23325 Filed 12-18-25; 8:45 am]

BILLING CODE 4910-EX-P